DEPARTMENT OF COMMERCE

National Oceanic and Atmospheric Administration

[I.D. 111004G]

North Pacific Fishery Management Council; Notice of Public Meeting

AGENCY: National Marine Fisheries Service (NMFS), National Oceanic and Atmospheric Administration (NOAA), Commerce.

ACTION: Meeting of the North Pacific Fishery Management Council's Pacific Northwest Crab Industry Advisory Committee.

SUMMARY: The Pacific Northwest Crab Industry Advisory Committee will meet to develop summary comments and recommendations regarding the NOAA proposed rule for implementing the BSAI Crab Rationalization Program, Amendments 18 and 19 to the Fishery Management Plan for Bering Sea Aleutian King and Tanner Crabs.

DATES: November 29, 2004, from 9 a.m. to 2 p.m.

ADDRESSES: The meeting will be held at 2245 NW 57th Street, Seattle, WA 98107 (at the Leif Erickson Hall in Ballard).

Council address: North Pacific Fishery Management Council, 605 W. 4th Ave., Suite 306, Anchorage, AK 99501-2252.

FOR FURTHER INFORMATION CONTACT: Diana Stram, Council staff, phone: 907-271-2809.

SUPPLEMENTARY INFORMATION:

Agenda

The purpose of the meeting is to develop summary comments and recommendations regarding the NOAA proposed rule for implementing the BSAI Crab Rationalization Program, Amendments 18 and 19 to the Fishery Management Plan for Bering Sea Aleutian King and Tanner Crabs.

Special Accommodations

These meetings are physically accessible to people with disabilities. Requests for sign language interpretation or other auxiliary aids should be directed to Gail Bendixen at 907-271-2809 at least seven working days prior to the meeting date.

Dated: November 10, 2004.
Bruce C. Morehead,
Acting Director, Office of Sustainable Fisheries, National Marine Fisheries Service.

[FR Doc. 04-25506 Filed 11-12-04; 3:58 pm]

BILLING CODE 3510-22-S